NATIONAL FOUNDATION ON THE ARTS AND THE HUMANITIES

Institute of Museum and Library Services; Sunshine Act Meeting of the National Museum and Library Services Board

AGENCY: Institute of Museum and Library Services (IMLS), NFAH.

ACTION: Notice of meeting.

SUMMARY: This notice sets forth the agenda of the forthcoming meeting of the National Museum and Library Services Board. This notice also describes the function of the Board. Notice of the meeting is required under the Sunshine in Government Act.

TIME AND DATE: Monday, January 29, 2007 from 1:45 p.m. to 4:30 p.m.

AGENDA: Committee Meetings of the Tenth National Museum and Library Service Board Meetings:

1:45 p.m.-3 p.m. Meeting of the Committee on Partnerships & Government Affairs.

I. Staff Reports.

II. Other Business.

3:15 p.m.-4:30 p.m. Meeting of the Committee on Policy and Planning.

I. Staff Reports.

II. Other Business.

PLACE: The meetings will be held at the Hilton Cincinnati Netherland Plaza, 35 West Fifth Street, Cincinnati, Ohio. Telephone: (513) 421-9100.

TIME AND DATE: Tuesday, January 30, 2007, from 10 a.m. to 1 p.m.

AGENDA: Tenth National Museum and Library Services Board Meeting:

I. Welcome

II. Approval of Minutes

III. Financial Update

IV. Legislative Update

V. Committee Reports

VI. Board Program: Library and Museum and 21st Century Skills

VII. Board Updates

VIII. Adjournment

PLACE: The meeting will be held in the Discovery Room at the Freedom Center, 50 East Freedom Way, Cincinnati, Ohio 45202.

FOR FURTHER INFORMATION CONTACT: Elizabeth Lyons, Special Events and Board Liaison, Institute of Museum and Library Services, 1800 M Street, NW., 9th Floor, Washington, DC 20036. Telephone: (202) 653-4676.

SUPPLEMENTARY INFORMATION: The National Museum and Library Services Board is established under the Museum and Library Services Act, 20 U.S.C. 9101 et seq. The Board advises the Director of the Institute on general policies with respect to the duties, powers, and authorities related to Museum and Library Services.

If you need special accommodations due to a disability, please contact: Institute of Museum and Library Services, 1800 M Street, NW., 9th Fl., Washington, DC 20036. Telephone: (202) 653-4676; TDD (202) 653-4699 at least seven (7) days prior to the meeting date.

Dated: January 9, 2007.
Kate Fernstrom,
Chief of Staff.

[FR Doc. 07-138 Filed 1-11-07; 1:45 pm]

BILLING CODE 7036-01-M